DEPARTMENT OF COMMERCE

International Trade Administration

[A-201-833, A-580-854]

Notice of Termination of Antidumping Duty Investigations: Certain Circular Welded Carbon Quality Line Pipe from Mexico and the Republic of Korea

AGENCY: Import Administration, International Trade Administration, Department of Commerce.

EFFECTIVE DATE: February 17, 2005.

SUMMARY: On February 1, 2005, American Steel Pipe Division of ACIPCO, IPSCO Tubulars Inc., Lone Star Steel Company, Maverick Tube Corporation, Northwest Pipe Company, and Stupp Corporation (collectively, “petitioners”) withdrew their antidumping petitions, filed on March 3, 2004, regarding certain circular welded carbon quality line pipe from Mexico and the Republic of Korea (“Korea”). Based on this withdrawal, the Department of Commerce (“the Department”) is now terminating these investigations.

FOR FURTHER INFORMATION CONTACT: John Drury at 202-482-0195, Brandon Farlander at 202-482-0195, or Abdelali Elouaradia at 202-482-1374, AD/CVD Operations, Office 7, Import Administration, International Trade Administration, U.S. Department of Commerce, 14th Street and Constitution Avenue, NW, Washington, DC 20230.

SUPPLEMENTARY INFORMATION:

Background

On March 3, 2004, the Department received antidumping duty petitions filed in proper form by the petitioners for the imposition of antidumping duties on certain circular welded carbon quality line pipe from Mexico, Korea, and the People's Republic of China (“PRC”), alleging that line pipe from these countries were being sold, or were likely to be sold, in the United States at less than fair value. The petitioners are domestic producers of certain circular welded carbon quality line pipe (“line pipe”). On March 24, 2004, the Department initiated antidumping duty investigations of line pipe from Mexico, Korea, and the PRC. See Initiation of Antidumping Duty Investigations: Certain Circular Welded Carbon Quality Line Pipe From Mexico, The Republic of Korea, and the People's Republic of China, 69 FR 16521 (March 30, 2004) (“Initiation Notice”). On April 27, 2004, the International Trade Commission (“ITC”) issued its determination that there is a reasonable indication that an industry in the United States is materially injured or threatened with material injury by reason of imports of line pipe from Mexico, Korea, and the PRC.

On October 6, 2004, we published in the Federal Register the preliminary determination in the Korean investigation, concurrently postponing the final determination until no later than February 18, 2005, pursuant to section 751(a)(3)(A) of the Tariff Act of 1930, as amended (“the Act”). See Notice of Affirmative Preliminary Determination of Sales at Less than Fair Value and Postponement of Final Determination: Circular Welded Carbon Quality Line Pipe from the Republic of Korea, 69 FR 59885 (October 6, 2004) (“Preliminary Determination”). After receiving a timely allegation of ministerial error in the preliminary determination with regard to the calculated margin for Hyundai HYSCO CO., Ltd. (“HYSCO”), a respondent in this proceeding, we published in the Federal Register the amended preliminary determination. See Notice of Amended Preliminary Determination of Sales At Not Less Than Fair Value: Certain Circular Welded Carbon Quality Line Pipe from the Republic of Korea, 69 FR 64027 (November 3, 2004).

On October 6, 2004, we published in the Federal Register the preliminary determination in the Mexican investigation, concurrently postponing the final determination until no later than February 18, 2005, pursuant to section 751(a)(3)(A) of the Act. See Notice of Preliminary Determination of Sales at Less than Fair Value and Postponement of Final Determination: Circular Welded Carbon Quality Line Pipe from Mexico, 69 FR 59892 (October 6, 2004).

On December 8, 2004, petitioners withdrew their petition with regard to the investigation of imports of line pipe from the PRC, and the Department subsequently terminated the investigation. See Notice of Termination of Antidumping Duty Investigation: Certain Circular Welded Carbon Quality Line pipe from the People's Republic of China, 69 FR 75511 (December 17, 2004).

Scope of Investigations

The scope of these investigations include certain circular welded carbon quality steel line pipe of a kind used in oil and gas pipelines, over 32 mm (1 ¼ inches) in nominal diameter (1.660 inch actual outside diameter) and not more than 406.4 mm (16 inches) in outside diameter, regardless of wall thickness, surface finish (black, or coated with any coatings compatible with line pipe), and regardless of end finish (plain end, beveled ends for welding, threaded ends or threaded and coupled, as well as any other special end finishes), and regardless of stenciling. The merchandise subject to these investigations may be classified in the Harmonized Tariff Schedule of the United States (“HTSUS”) at heading 7306 and subheadings 7306.10.10.10, 730610.10.50, 7306.10.50.10, and 7306.10.50.50. The tariff classifications are provided for convenience and Customs purposes; however, the written description of the scope of the investigation is dispositive.

Termination of Antidumping Investigations

On February 1, 2004, the Department received a letter from petitioners notifying the Department that they are no longer interested in seeking relief and are withdrawing their petitions on line pipe from Mexico and Korea. Under section 734(a)(1)(A) of the Act of 1930, upon withdrawal of a petition, the administering authority may terminate an investigation after giving notice to all parties to the investigations. Further, section 351.207(b)(1) of the Department's regulations states that the Department may terminate an investigation upon withdrawal of a petition, provided it concludes that termination is in the public interest. We notified all interested parties to the investigations of our intent to terminate these investigations, and provided them an opportunity to comment on the proposed termination. On February 7, 2005, Hylsa S.A de CV, a respondent in this investigation, submitted comments stating that termination of these investigations is in the public interest. We have received no further comments from any party to these investigations.

As no party objects to this termination and the Department is not aware of evidence to the contrary, the Department finds that termination of these investigations is in the public interest. As such, we are terminating these antidumping investigations and will issue instructions directly to U.S. Customs and Border Protection (“CBP”) to terminate the suspension of liquidation of subject merchandise and release all bond and any cash deposits that have been posted, where applicable.

This notice serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and the terms of an APO is a sanctionable violation.

This determination and notice are published in accordance with section 734(a) of the Act and section 19 CFR 351.207(b) of the Department's regulations.

Dated: February 10, 2005.
Joseph A. Spetrini,
Acting Assistant Secretary for Import Administration.

[FR Doc. 05-3081 Filed 2-16-05; 8:45 am]

BILLING CODE: 3510-DS-S